DEPARTMENT OF HEALTH AND HUMAN SERVICES

Administration for Children and Families

Submission for OMB Review; Comment Request

Title: OCSE-396A: Child Support Enforcement Program Expenditure Report; OCSE-34A: Child Support Enforcement Program Collection Report.

OMB NO.: 0970-0181.

Description: Each State agency administering the Child Support Enforcement Program under Title IV-D of the Social Security Act is required to provide information to the Office of Child Support Enforcement concerning its administrative expenditures and its receipt and disposition of child support payments from noncustodial parents. These quarterly reporting forms enable each State to provide that information, which is used to compute both the quarterly grants awarded to each State and the annual incentive payments earned by each State. This information is also included in a published annual statistical and financial report, available to the general public.

The Administration for Children and Families received several comments concerning these reporting forms in response to an earlier Federal Register notice (71 FR 70406, December 4, 2006). Many of these comments concerned amendments made to the statute governing this program by the “Deficit Reduction Act of 2005” (Pub. L. 109-171, February 8, 2006).

As a result of these comments, ACF is proposing several revisions to these forms to improve data collection capabilities, add additional reporting requirements in compliance with the amended statute, consolidate or delete existing requirements to eliminate redundancy or unnecessary reporting.

Specifically, the revised reporting documents eliminate the need to provide budget projections (previously included as Part 3 of Form OCSE-396A), eliminate a separate reporting document (OCSE Schedule UDC, previously approved as OMB No. 0970-0268), with the collected information incorporated into Form OCSE-34A and add several data entry lines to accommodate changes in the statute and regulations.

Respondents: State agencies administering the Child Support Enforcement Program.

Annual Burden Estimates
Instrument | Number of respondents | Number of responses per respondent | Average burden hours per response | Total burden hours
OCSE-396A | 54 | 4 | 8 | 1,728
OCSE-34A | 54 | 4 | 8 | 1,728

Estimated Total Annual Burden Hours: 3,456.

Additional Information: Copies of the proposed collection may be obtained by writing to the Administration for Children and Families, Office of Administration, Office of Information Services, 370 L'Enfant Promenade, SW., Washington, DC 20447, Attn: ACF Reports Clearance Officer. E-mail address: infocollection@acf.hhs.gov. All requests should be identified by the title of the information collection.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, FAX: 202-395-6974, Attn: Desk Officer for the Administration for Children and Families.

Dated: July 18, 2007.
Robert Sargis,
Reports Clearance Officer.

[FR Doc. 07-3572 Filed 7-23-07; 8:45 am]

BILLING CODE 4184-01-M